DEPARTMENT OF HOMELAND SECURITY

Coast Guard

33 CFR Part 100

[Docket Number USCG-2025-1108]

RIN 1625-AA08

Special Local Regulations; Marine Events Within the USCG East District

AGENCY: Coast Guard, DHS.

ACTION: Notice of proposed rulemaking.

SUMMARY: The Coast Guard is proposing to amend a special local regulation for certain waters of the Patapsco River, in Baltimore, MD by adding a new period during which this regulation would be subject to enforcement. This action is necessary to provide for the safety of life on these navigable waters during the 3rd and 4th weeks of June, during Fleet Week events. This rule would prohibit persons and vessels from entering the regulated area during this enforcement period unless authorized by the Captain of the Port Maryland-National Capital Region or the Coast Guard Patrol Commander.

DATES: Comments and related material must be received by the Coast Guard on or before February 26, 2026.

ADDRESSES: To submit comments and view available documents, go to https://www.regulations.gov and search for USCG-2025-1108.

FOR FURTHER INFORMATION CONTACT: If you have questions about this proposed rulemaking, call or email LCDR Kate Newkirk, U.S. Coast Guard Sector Maryland-National Capital Region; telephone 410-576-2674, email Kate.M.Newkirk@uscg.mil.

SUPPLEMENTARY INFORMATION:

I. Table of Abbreviations

CFR Code of Federal Regulations

COTP Captain of the Port, Sector Maryland-National Capital Region

DHS Department of Homeland Security

FR Federal Register

NPRM Notice of proposed rulemaking

PATCOM Coast Guard Patrol Commander

§ Section

SLR Special Local Regulation

U.S.C. United States Code

II. Background, Purpose, and Legal Basis

“Historic Ships in Baltimore, Inc.” is the sponsor of an event titled “Air Show Baltimore,” which is held every two years in the Patapsco River, including the Inner Harbor, in Baltimore, MD. To address potential hazards arising from the event, the Coast Guard has promulgated a Special Local Regulation (SLR) which is codified in 33 CFR 100.501. Normally, Air Show Baltimore is held on one four-day (Thursday through Sunday) weekend in September or October. This year, however, “Historic Ships in Baltimore, Inc.,” together with Fleet Week 2026, and Sail250, Inc., all of Baltimore, MD, have notified the Coast Guard that they will be conducting the Air Show Baltimore in conjunction with a Fleet Week celebration from 12 noon to 4 p.m. daily from June 24, 2026, to July 01, 2026.

The biennial air show consists of various types of military aircraft performing low-flying, high-speed precision maneuvers and aerial stunts. The U.S. Navy's Blue Angels flight demonstration squadron aircraft will practice between 12 noon and 4 p.m. on June 24-25, 2026, and all air show performers will conduct a full practice show rehearsal will from 12 noon to 4 p.m. on June 25, 2026. The proposed new enforcement period would begin two hours before and end two hours after the hours during which air shows would be scheduled to occur.

III. Discussion of Proposed Rule

The existing SLR is subject to all the requirements which pertain generally to SLRs in § 100.501, as well as to specific requirements set out in paragraph (h)(2) of that section. The regulated area, which would not change, and periods during which the SLR are currently subject to enforcement are set out in the first row of Table 2 to paragraph (i)(2) of § 100.501. The existing SLR is currently only subject to enforcement on one of three four-day (Thursday through Sunday) weekends in September or October on alternating years. The sole purpose of the proposed rule would is to create a new enforcement period, from 10 a.m. to 6 p.m. from June 24 to July 1.

Except for Air Show Baltimore participants and vessels already at berth, a vessel or person would be required to get permission from the COTP or PATCOM before entering the regulated area during the proposed enforcement period. Vessel operators would request permission to enter and transit through the regulated area by contacting the COTP or PATCOM on VHF-FM channel 16. A person or vessel not registered with the event sponsor as a participant or assigned as official patrols would be considered a non-participant. Official Patrols are any vessel assigned or approved by the Commander, Coast Guard Sector Maryland-National Capital Region with a commissioned warrant, or petty officer on board and displaying a Coast Guard ensign.

If permission is granted by the COTP or PATCOM, a non-participant would be allowed to enter the regulated area or pass directly through the regulated area as instructed. Vessels would be required to operate at a safe speed that minimizes wake while within the regulated area, in a manner that would not endanger event participants or any other craft. Official patrol vessels would direct non-participants while within the regulated area. The air show aerobatics areas located within the regulated areas is restricted to Air Show Baltimore participants.

The regulatory text we are proposing appears at the end of this document.

IV. Regulatory Analyses

We developed this proposed rule after considering numerous statutes and Executive orders related to rulemaking. Below we summarize our analyses based on a number of these statutes and Executive orders.

A. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this proposed rule would not have a significant economic impact on a substantial number of small entities.

While some owners or operators of vessels intending to transit the safety zone may be small entities, for the reasons stated in section IV.A above, this proposed rule would not have a significant economic impact on any vessel owner or operator. The Coast Guard will work closely with small business entities to organize transit and minimize impacts to business.

If you think that your business, organization, or governmental jurisdiction qualifies as a small entity and that this rule would have a significant economic impact on it, please submit a comment (see ADDRESSES) explaining why you think it qualifies and how and to what degree this rule would economically affect it.

Under section 213(a) of the Small Business Regulatory Enforcement Fairness Act of 1996 (Pub. L. 104-121), we want to assist small entities in understanding this proposed rule. If the rule would affect your small business, organization, or governmental jurisdiction and you have questions concerning its provisions or options for compliance, please call or email the person listed in the FOR FURTHER INFORMATION CONTACT section. The Coast Guard will not retaliate against small entities that question or complain about this proposed rule or any policy or action of the Coast Guard.

C. Collection of Information

This proposed rule would not call for a new collection of information under the Paperwork Reduction Act of 1995 (44 U.S.C. 3501-3520).

D. Federalism and Indian Tribal Governments

A rule has implications for federalism under Executive Order 13132 (Federalism), if it has a substantial direct effect on the States, on the relationship between the National Government and the States, or on the distribution of power and responsibilities among the various levels of government. We have analyzed this proposed rule under that Order and have determined that it is consistent with the fundamental federalism principles and preemption requirements described in Executive Order 13132.

Also, this proposed rule does not have tribal implications under Executive Order 13175 (Consultation and Coordination with Indian Tribal Governments) because it would not have a substantial direct effect on one or more Indian tribes, on the relationship between the Federal Government and Indian tribes, or on the distribution of power and responsibilities between the Federal Government and Indian tribes. If you believe this proposed rule has implications for federalism or Indian tribes, please call or email the person listed in the FOR FURTHER INFORMATION CONTACT section.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this proposed rule would not result in such an expenditure, we do discuss the effects of this rule elsewhere in this preamble.

F. Environment

We have analyzed this proposed rule under Department of Homeland Security Directive 023-01, Rev. 1, associated implementing instructions, and Environmental Planning COMDTINST 5090.1 (series), which guide the Coast Guard in complying with the National Environmental Policy Act of 1969 (42 U.S.C. 4321-4370f), and have made a preliminary determination that this action is one of a category of actions that do not individually or cumulatively have a significant effect on the human environment. This proposed rule involves implementation of regulations within 33 CFR part 100 applicable to organized marine events on the navigable waters of the United States that could negatively impact the safety of waterway users and shore side activities in the event area for 32 hours. As events covered by SLRs undergo an environmental analysis in conjunction with the submission of a marine event permit, such actions are normally categorically excluded from further review under paragraph L61 of Appendix A, Table 1 of DHS Instruction Manual 023-01-001-01, Rev. 1. We seek any comments or information that may lead to the discovery of a significant environmental impact from this proposed rule.

V. Public Participation and Request for Comments

We view public participation as essential to effective rulemaking and will consider all comments and material received during the comment period. Your comment can help shape the outcome of this rulemaking. If you submit a comment, please include the docket number for this rulemaking, indicate the specific section of this document to which each comment applies, and provide a reason for each suggestion or recommendation.

Submitting comments. We encourage you to submit comments at https://www.regulations.gov. To do so, go to https://www.regulations.gov, type USCG-2025-1108 in the search box and click “Search.” Next, look for this document in the Search Results column, and click on it. Then click on the Comment option. If you cannot submit your material by using https://www.regulations.gov, call or email the person in the FOR FURTHER INFORMATION CONTACT section of this proposed rule for alternate instructions.

Viewing material in the docket. To view available documents, find the docket as described in the previous paragraph, and then select “Supporting & Related Material” in the Document Type column. We will post public comments in our online docket. Additional information is on the https://www.regulations.gov Frequently Asked Questions web page.

Personal information. We accept anonymous comments. Comments we post to https://www.regulations.gov will include any personal information you have provided. For more about privacy and submissions to the docket in response to this document, see DHS's eRulemaking System of Records notice (85 FR 14226, March 11, 2020).

List of Subjects in 33 CFR Part 100

Marine safety, Navigation (water), Reporting and recordkeeping requirements, Waterways.

For the reasons discussed in the preamble, the Coast Guard is proposing to amend 33 CFR part 100 as follows:

PART 100—SAFETY OF LIFE ON NAVIGABLE WATERS

1. The authority citation for part 100 continues to read as follows:

Authority: 46 U.S.C. 70041; 33 CFR 1.05-1.

2. In § 100.501, amend table 2 to paragraph (i)(2) by adding an additional enforcement period (#4) to the third column of the first row to read as follows:

Table 2 to Paragraph (i)(2)
Event | Regulated area | Enforcement period(s) ¹ | Sponsor
Air Show Baltimore | Regulated area: All navigable waters of the Patapsco River, within an area bounded by a line connecting position latitude 39°16′00″ N, longitude 076°36′30″ W, thence east to latitude 39°16′00″ N, longitude 076°33′00″ W, thence south to latitude 39°14′30″ N, longitude 076°33′00″ W, thence west to latitude 39°14′30″ N, longitude 076°36′30″ W, thence north to point of origin, located between Port Covington and Seagirt Marine Terminal, Baltimore, MD. Spectator Area: All navigable waters of Patapsco River located between the northern boundary defined by a line drawn from the vicinity of North Locust Point Marine Terminal, Pier 1 thence east to Canton Industrial area, Pier 5; the south boundary is defined by a line drawn from vicinity of Whetstone Point thence east to Lazaretto Point. This area is located generally where Northwest Harbor, East Channel joins Patapsco River, Fort McHenry Channel, near Fort McHenry National Monument, Baltimore, MD. This area is bound by a line to the north commencing at position latitude 39°16′01″ N, longitude 076°34′46″ W, thence east to latitude 39°16′01″ N, longitude 076°34′09″ W, and bound by a line to the south commencing at position latitude 39°15′39″ N, longitude 076°35′23″ W, thence east to latitude 39°15′26″ N, longitude 076°34′03″ W. This spectator area is restricted to certain vessels as described in this paragraph (i)(2) | Biennial, even years: 1. The 2nd Thursday in September, following a Friday, Saturday and Sunday; or 2. The Thursday, Friday, Saturday and Sunday before Columbus Day (observed); or 3. The Thursday, Friday, Saturday and Sunday after Columbus Day (observed); or 4. from 10 a.m. to 6 p.m from June 24 to July 1 | Historic Ships in Baltimore, Inc.
* * * * * * *

Dated: January 22, 2026.
Patrick C Burkett,
Captain, U.S. Coast Guard, Captain of the Port, Maryland-National Capital Region.

[FR Doc. 2026-01560 Filed 1-26-26; 8:45 am]

BILLING CODE 9110-04-P